ENVIRONMENTAL PROTECTION AGENCY

40 CFR Part 1065

Engine-Testing Procedures; CFR Correction

In Title 40 of the Code of Federal Regulations, Parts 1000 to End, revised as of July 1, 2015, on page 857, in § 1065.670, the second paragraph of introductory text is removed.

[FR Doc. 2016-15805 Filed 6-30-16; 8:45 am]

BILLING CODE 1505-01-D